DEPARTMENT OF DEFENSE

Office of the Secretary

[Docket ID: DoD-2022-OS-0129]

Proposed Collection; Comment Request

AGENCY: Office of the Under Secretary of Defense for Research and Engineering, (OUSD(R&E), Department of Defense (DoD).

ACTION: 60-Day information collection notice.

SUMMARY: In compliance with the Paperwork Reduction Act of 1995, the Office of the Under Secretary of Defense for Research and Engineering (OUSD(R&E)) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 27, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to SMART Program Office, 4800 Mark Center Drive, Suite 17C08, Alexandria, VA, 22350-3600, ATTN: Dr. Brandon Cochenour, or call 240-526-1123.

SUPPLEMENTARY INFORMATION:

Title; Associated Form; and OMB Number: SMART Scholar Survey and Sponsoring Facilities (SF) Survey; OMB Control Number 0704-DSSS.

Needs and Uses: The information gathered through the “Scholar Survey” and “Sponsoring Facilities Survey” will inform the Department of Defense (DoD) on the Science, Mathematics and Research for Transformation (SMART) Scholarship for Service Program. The purpose of these surveys is to gain a better understanding of scholars' and sponsoring facilities' (SF) perspectives on the program and its impact on the scholar. Both surveys are part of a third-party evaluation of the SMART Program. The purpose of the scholar survey is to gain a deep perspective of SMART scholars who are participating or have participated in the program, understanding their perspective on how the SMART program operates, identifying program processes that are working well, suggesting what could be improved in the program, and determining the detailed outcomes of the program. The purpose of the SF survey is to gain a perspective of DoD facilities who are participating in the program, understanding their perspective on how the SMART program operates, identifying program processes that are working well, and suggesting what could be improved in the program. Both surveys aim to help improve the SMART Program.

Affected Public: Individuals or households.

SMART Scholar Survey

Annual Burden Hours: 900.

Number of Respondents: 1,800.

Responses per Respondent: 1.

Annual Responses: 1,800.

Average Burden per Response: 30 minutes.

Sponsoring Facilities Survey

Annual Burden Hours: 15.

Number of Respondents: 60.

Responses per Respondent: 1.

Annual Responses: 60.

Average Burden per Response: 15 minutes.

Total

Total Annual Burden Hours: 915.

Annual Responses: 1,860.

Frequency: This is expected to be a one-time collection.

Both surveys will be administered online using a password-protected Qualtrics account. Qualtrics is a Federal Risk and Authorization Management Program (FedRAMP) certified program. All respondents will receive the same survey instrument. Respondents to the scholar survey will answer questions about their experiences with the SMART Program, to include the application process, degree pursuit, and post-graduation employment with DoD. Respondents to the SF survey will answer questions about the SF's use of the SMART Program, to include outreach, selection of scholars, scholar professional development opportunities, hiring of scholars, and retention. Respondents to both surveys retain the ability to skip any survey question they do not wish to answer. Respondents may also end the survey at any time without penalty. Respondents return the collection by clicking a button (indicated by a right arrow) on the last page of the survey, which logs their answers in a Qualtrics database attached to the survey.

Dated: November 22, 2022.
Aaron T. Siegel,
Alternate OSD Federal Register Liaison Officer, Department of Defense.

[FR Doc. 2022-25853 Filed 11-25-22; 8:45 am]

BILLING CODE 5001-06-P